DEPARTMENT OF HOMELAND SECURITY

Federal Emergency Management Agency

[Docket ID FEMA-2026-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: David N. Bascom, Acting Director, Engineering and Modeling Division, National Flood Insurance Program, Resilience, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Assistant Administrator, Federal Insurance Directorate, Resilience has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

The current effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Elizabeth Asche,
Assistant Administrator, Federal Insurance Directorate, Resilience Federal Emergency Management Agency, Department of Homeland Security.

State and county | Location and case No. | Chief executive officer of community | Community map repository | Date of modification | Community No.
Arkansas: Washington (FEMA Docket No.: B-2555). | City of Elkins (24-06-2439P). | The Honorable Troy Reed, Mayor, City of Elkins, 1874 Stokenbury Road, Elkins, AR 72727. | City Hall, 1874 Stokenbury Road, Elkins, AR 72727. | Nov. 17, 2025 | 050214
Delaware: New Castle (FEMA Docket No.: B-2555). | City of New Castle (25-03-0504P). | The Honorable Valarie Leary, Mayor, City of New Castle, 220 Delaware Street, New Castle, DE 19720. | Building Department, 900 Wilmington Road, New Castle, DE 19720. | Nov. 13, 2025 | 100026
Florida:
Bay (FEMA Docket No.: B-2555). | Unincorporated areas of Bay County (24-04-7642P). | Robert Majka, Bay County Manager, 840 West 11th Street, Panama City, FL 32401. | Bay County Planning and Zoning Department, 840 West 11th Street, Panama City, FL 32401. | Nov. 17, 2025 | 120004
Charlotte (FEMA Docket No.: B-2558). | Unincorporated areas of Charlotte County (24-04-2314P). | The Honorable Joe Tiseo, Chair, Charlotte County Board of Commissioners, 18500 Murdock Circle, Suite 536, Port Charlotte, FL 33948. | Charlotte County Building Department, 18400 Murdock Circle, Port Charlotte, FL 33948. | Nov. 4, 2025 | 120061
Duval (FEMA Docket No.: B-2555). | City of Jacksonville (25-04-2677P). | The Honorable Donna Deegan, Mayor, City of Jacksonville, 117 West Duval Street, Suite 400, Jacksonville, FL 32202. | City Hall, 117 West Duval Street, Suite 400, Jacksonville, FL 32202. | Nov. 24, 2025 | 120077
Hillsborough (FEMA Docket No.: B-2555). | Unincorporated areas of Hillsborough County (25-04-0011P). | The Honorable Bonnie Wise, Hillsborough County Administrator, 601 East Kennedy Boulevard, 26th Floor, Tampa, FL 33602. | Hillsborough County Public Works Department, 601 East Kennedy Boulevard, 22nd Floor, Tampa, FL 33602. | Nov. 17, 2025 | 120112
Lake (FEMA Docket No.: B-2555). | City of Leesburg (25-04-1023P). | The Honorable Alan Reisman, Mayor, City of Leesburg, 501 West Meadow Street, Leesburg, FL 34748. | City Hall, 501 West Meadow Street, Leesburg, FL 34748. | Nov. 20, 2025 | 120136
Marion (FEMA Docket No.: B-2555). | City of Ocala (24-04-4815P). | The Honorable Ben Marciano, Mayor, City of Ocala, 110 Southeast Watula Avenue, Ocala, FL 34471. | Stormwater Engineering Department, 1805 Northeast 30th Avenue, Building 300, Ocala, FL 34470. | Nov. 24, 2025 | 120330
Monroe (FEMA Docket No.: B-2555). | Unincorporated areas of Monroe County (25-04-3303P). | The Honorable Jim Scholl, Mayor, Monroe County Board of Commissioners, 530 Whitehead Street, Key West, FL 33040. | Monroe County Building Department, 2798 Overseas Highway, Suite 300, Marathon, FL 33050. | Dec. 1, 2025 | 125129
Miami-Dade (FEMA Docket No.: B-2558). | Unincorporated areas of Miami-Dade County (25-04-2591P). | The Honorable Daniella Levine Cava, Mayor, Miami-Dade County, 111 Northwest 1st Street, 29th Floor, Miami, FL 33128. | Miami-Dade Regulatory and Economic Resources, 701 Northwest 1st Court, 5th Floor, Miami, FL 33136. | Nov. 4, 2025 | 120635
Nassau (FEMA Docket No.: B-2558). | Unincorporated areas of Nassau County (24-04-6682P). | Taco E. Pope, Manager, Nassau County, 96135 Nassau Place, Suite 1, Yulee, FL 32097. | Nassau County Public Services Building, 96161 Nassau Place, Yulee, FL 32097. | Nov. 28, 2025 | 120170
Nassau (FEMA Docket No.: B-2555). | Unincorporated areas of Nassau County (24-04-6683P). | Taco E. Pope, Manager, Nassau County, 96135 Nassau Place, Suite 1, Yulee, FL 32097. | Nassau County Public Services Building, 96161 Nassau Place, Yulee, FL 32097. | Nov. 13, 2025 | 120170
Palm Beach (FEMA Docket No.: B-2558). | Unincorporated areas of Palm Beach County (24-04-5577P). | The Honorable Todd C. Bonlarron, Interim Administrator, Palm Beach County, 301 North Olive Avenue, Suite 1101, West Palm Beach, FL 33401. | Palm Beach County Vista Center, Building Division, 2300 North Jog Road, West Palm Beach, FL 33411. | Nov. 24, 2025 | 120192
Palm Beach (FEMA Docket No.: B-2555). | Unincorporated areas of Palm Beach County (25-04-0808P). | The Honorable Todd C. Bonlarron, Interim Administrator, Palm Beach County, 301 North Olive Avenue, Suite 1101, West Palm Beach, FL 33401. | Palm Beach County Vista Center, Building Division, 2300 North Jog Road, West Palm Beach, FL 33411. | Nov. 17, 2025 | 120192
Polk (FEMA Docket No.: B-2555). | City of Lakeland (25-04-0671P). | The Honorable William “Bill” Mutz, Mayor, City of Lakeland, 228 South Massachusetts Avenue, Lakeland, FL 33801. | City Hall, 228 South Massachusetts Avenue, Lakeland, FL 33801. | Nov. 21, 2025 | 120267
Seminole. (FEMA Docket No.: B-2555). | City of Sanford (24-04-6186P). | The Honorable Art Woodruff, Mayor, City of Sanford, 300 North Park Avenue, Sanford, FL 32771. | City Hall, 300 North Park Avenue, Sanford, FL 32771. | Nov. 28, 2025 | 120294
Volusia (FEMA Docket No.: B-2555). | City of Daytona Beach (25-04-0867P). | The Honorable Derrick Henry, Mayor, City of Daytona Beach, 301 South Ridgewood Avenue, Daytona Beach, FL 32114. | City Hall, 301 South Ridgewood Avenue, Daytona Beach, FL 32114. | Nov. 17, 2025 | 125099
Indiana: Marion (FEMA Docket No.: B-2558). | City of Indianapolis (24-05-0915P). | The Honorable Joe Hogsett, Mayor, City of Indianapolis, 200 East Washington Street, Suite 2501, Indianapolis, IN 46204. | City-County Building, 200 East Washington Street, Suite 2501, Indianapolis, IN 46204. | Nov. 24, 2025 | 180159
Louisiana: East Baton Rouge (FEMA Docket No.: B-2563). | Unincorporated areas of East Baton Rouge Parish (24-06-2136P). | The Honorable Sid Edwards, Mayor-President, City of Baton Rouge and East Baton Rouge Parish, P.O. Box 1471, Baton Rouge, LA 70821. | Baton Rouge Planning Commission, 1100 Laurel Street, Baton Rouge, LA 70802. | Nov. 28, 2025 | 220058
Massachusetts:
Essex (FEMA Docket No.: B-2555). | City of Haverhill (25-01-0730P). | The Honorable Melinda E. Barrett, Mayor, City of Haverhill, 4 Summer Street, Room 100, Haverhill, MA 01830. | Engineering Division, City Hall, Room 300, Haverhill, MA 01830. | Nov. 28, 2025 | 250085
Essex (FEMA Docket No.: B-2558). | Town of, Andover (25-01-0731P). | Andrew P. Flanagan, Manager, Town of, Andover, 36 Bartlet Street, Andover, MA 01810. | Town Hall, 36 Bartlet Street, Andover, MA 01810. | Nov. 21, 2025 | 250076
Essex (FEMA Docket No.: B-2555). | Town of Groveland (25-01-0730P). | The Honorable Jason Naves, Chair, Town of Groveland Select Board, 183 Main Street, Groveland, MA 01834. | Engineering Division, City Hall, Room 300, Haverhill, MA 01830 | Nov. 28, 2025 | 250083
Essex (FEMA Docket No.: B-2555). | Town of West Newbury (25-01-0730P). | Angus Jennings, Manager, Town of West Newbury, 381 Main Street, West Newbury, MA 01985. | Inspectional Services Department, 381 Main Street, West Newbury, MA 01985. | Nov. 28, 2025 | 250108
Middlesex (FEMA Docket No.: B-2558). | City of Woburn (25-01-0728P). | The Honorable Michael Concannon, Mayor, City of Woburn, 10 Common Street, Woburn, MA 01801. | City Hall, 6 Common Street, Woburn, MA 01801. | Nov. 26, 2025 | 250229
Middlesex (FEMA Docket No.: B-2555). | City of Waltham (25-01-0729P). | The Honorable Jeannette A. McCarthy, Mayor, City of Waltham, 610 Main Street, Waltham, MA 02452. | Clark Government Center, 119 School Street, Waltham, MA 02451. | Nov. 28, 2025 | 250222
Middlesex (FEMA Docket No.: B-2555). | Town of Belmont (25-01-0729P). | The Honorable Matt Taylor, Chair, Town of Belmont, Select Board, 455 Concord Avenue, Belmont, MA 02478. | Town Hall, 455 Concord Avenue, Belmont, MA 02478. | Nov. 28, 2025 | 250182
Worcester (FEMA Docket No.: B-2563). | City of Worcester (24-01-0348P) | Eric D. Batista, Manager, City of Worcester, 455 Main Street, Worcester, MA 01608. | City Hall, 455 Main Street, Worcester, MA 01608. | Dec. 1, 2025 | 250349
Worcester (FEMA Docket No.: B-2555). | Town of Holden (25-01-0727P). | The Honorable Thomas Curran, Chair, Town of Holden, Board of Selectmen, 1204 Main Street, Holden, MA 01520. | Town Hall, 1204 Main Street, Holden, MA 01520. | Nov. 28, 2025 | 250309
Minnesota: Anoka (FEMA Docket No.: B-2558). | City of Andover (24-05-0578P). | The Honorable Jamie Barthel, Mayor, City of Andover, 1685 Crosstown Boulevard Northwest , Andover, MN 55304. | City Hall, 1685 Crosstown Boulevard Northwest, Andover, MN 55304. | Dec. 1, 2025 | 270689
New York: Suffolk (FEMA Docket No.: B-2546). | Village of Southampton (25-02-0080P). | The Honorable William Manger, Jr., Mayor, Village of Southampton, 23 Main Street , Southampton, NY 11968. | Building Department, 23 Main Street, Southampton, NY 11968. | Nov. 28, 2025 | 365343
Oklahoma:
Comanche (FEMA Docket No.: B-2555). | City of Lawton (25-06-0068P). | The Honorable Stan Booker, Mayor, City of Lawton, 212 Southwest 9th Street, Lawton, OK 73501. | City Hall, 212 Southwest 9th Street, Lawton, OK 73501. | Nov. 28, 2025 | 400049
Tulsa (FEMA Docket No.: B-2555). | City of Tulsa (24-06-2612P). | The Honorable Monroe Nichols IV, Mayor, City of Tulsa, 175 East 2nd Street, Tulsa, OK 74103. | City Hall, 175 East 2nd Street, Suite 690, Tulsa, OK 74103. | Nov. 24, 2025 | 405381
South Carolina: Richland (FEMA Docket No.: B-2558). | Unincorporated areas of Richland County (24-04-7825P). | The Honorable Leonard Brown, Richland County Administrator, P.O. Box 192, Columbia, SC 29204. | Richland County Administration Building, 2020 Hampton Street, 1st Floor, Columbia, SC 29204. | Nov. 17, 2025 | 450170
Tennessee: Davidson (FEMA Docket No.: B-2555). | Metropolitan Government of Nashville-Davidson County (24-04-1726P). | The Honorable Freddie O'Connell, Mayor, Metropolitan Government of Nashville-Davidson County, 1 Public Square, Suite 100, Nashville, TN 37201. | Metropolitan Government of Nashville-Davidson County, Metro Water Services, 1607 County Hospital Road, Nashville, TN 37218. | Nov. 24, 2025 | 470040
Texas:
Collin (FEMA Docket No.: B-2558). | Town of Prosper (25-06-1026P). | The Honorable David F. Bristol, Mayor, Town of Prosper, 250 West 1st Street, Prosper, TX 75078. | Town Hall, 250 West 1st Street, Prosper, TX 75078. | Dec. 1, 2025 | 480141
Dallas (FEMA Docket No.: B-2555). | City of Grand Prairie (24-06-1445P). | The Honorable Ron Jensen, Mayor, City of Grand Prairie, P.O. Box 534045, Grand Prairie, TX 75053. | City Hall East, 300 West Main Street, Grand Prairie, TX 75050. | Dec. 1, 2025 | 485472
Denton (FEMA Docket No.: B-2558). | City of Carrollton (24-06-1309P). | The Honorable Steve Babick, Mayor, City of Carrollton, 1945 East Jackson Road, Carrollton, TX 75006. | City Hall, 1945 East Jackson Road, Carrollton, TX 75006. | Dec. 1, 2025 | 480167
Denton (FEMA Docket No.: B-2558). | City of Lewisville (24-06-1309P). | The Honorable T.J. Gilmore, Mayor, City of Lewisville, P.O. Box 299002, Lewisville, TX 75029. | City Hall, 151 West Church Street, Lewisville, TX 75057. | Dec. 1, 2025 | 480195
Harris (FEMA Docket No.: B-2558). | City of Houston (24-06-1406P). | The Honorable John Whitmire, Mayor, City of Houston, P.O. Box 1562, Houston, TX 77251. | Floodplain Management Office, 1002 Washington Avenue, Houston, TX 77002. | Dec. 1, 2025 | 480296
Harris (FEMA Docket No.: B-2558). | Unincorporated areas of Harris County (24-04-1406P). | The Honorable Lina Hidalgo, Harris County Judge, 1001 Preston Street, Suite 911, Houston, TX 77002. | Harris County Permit Office, 1111 Fannin Street, 8th Floor, Houston, TX 77002. | Dec. 1, 2025 | 480287
McClennan (FEMA Docket No.: B-2555). | City of Waco (24-06-1644P). | The Honorable Jim Holmes, Mayor, City of Waco, P.O. Box 2570, Waco, TX 76702. | Dr. Mae Jackson Development Center, 401 Franklin Avenue, Waco, TX 76701. | Nov. 28, 2025 | 480461
Tarrant (FEMA Docket No.: B-2558). | City of Arlington (24-06-2405P). | The Honorable Jim Ross, Mayor, City of Arlington, P.O. Box 90231, Arlington, TX 76010. | City Hall, 101 West Abram Street, Arlington, TX 76010. | Nov. 17, 2025 | 485454
Tarrant (FEMA Docket No.: B-2558). | City of Fort Worth (25-06-0122P). | The Honorable Mattie Parker, Mayor, City of Fort Worth, 100 Fort Worth Trail, Fort Worth, TX 76102. | Department of Transportation and Public Works, Stormwater Management Division, Fort Worth, TX 76102. | Nov. 17, 2025 | 480596

[FR Doc. 2026-01055 Filed 1-20-26; 8:45 am]

BILLING CODE 9110-12-P